DEPARTMENT OF VETERANS AFFAIRS

National Commission on VA Nursing; Notice of Meeting

The Department of Veterans Affairs (VA) give notice under Public Law 92-463 (Federal Advisory Committee Act) that the National Commission on VA Nursing will hold its eighth meeting on February 10-11, 2004 at the Holiday Inn Walt Disney World Resort, 1805 Hotel Plaza Blvd, Lake Buena Vista, FL 32830. On Tuesday, February 10, the meeting will begin with registration at 7:30 a.m. and adjourn at 5 p.m. On Wednesday, February 11, the meeting will begin with registration at 7:30 a.m. and adjourn at 2 p.m. The meeting is open to the public.

The purpose of the Commission is to provide advice and make recommendations to Congress and the Secretary of Veterans Affairs regarding legislative and organizational policy changes to enhance the recruitment and retention of nurses and other nursing personnel in VA. The Commission is required to submit to Congress and the Secretary of Veterans Affairs a report, not later than two years from May 8, 2002, on its findings and recommendations.

On February 10 and 11, the Commission will complete its consideration of recommendations to be submitted to Congress and the Secretary. This is expected to be the last formal meeting of the Commission.

Members of the public may direct written questions or submit prepared statements for review by the Commission in advance of the meeting, to Ms. Oyweda Moorer, Director of the National Commission on VA Nursing, at Department of Veterans Affairs (108N), 810 Vermont Avenue, NW., Washington, DC 20420. Any member of the public wishing to attend the meeting should contact Ms. Stephanie Williams, Program Analyst at (202) 273-4944.

Dated: January 20, 2004.
By Direction of the Secretary.
E. Philip Riggin,
Committee Management Officer.

[FR Doc. 04-1763 Filed 1-27-04; 8:45 am]

BILLING CODE 8320-01-M